ENVIRONMENTAL PROTECTION AGENCY

40 CFR Part 52

[EPA-R05-OAR-2021-0441; FRL-9160-02-R5]

Air Plan Approval; Michigan; Base Year Emissions Inventory for the 2010 Sulfur Dioxide Standard

AGENCY: Environmental Protection Agency (EPA).

ACTION: Final rule.

SUMMARY: The Environmental Protection Agency (EPA) is approving, under the Clean Air Act (CAA), revisions to the State Implementation Plan (SIP) submitted by the Michigan Department of Environment, Great Lakes, and Energy (EGLE) on June 30, 2021. The revisions address the emission inventory requirements for the St. Clair County nonattainment area under the 2010 sulfur dioxide (SO2) National Ambient Air Quality Standard (NAAQS or standard). The CAA requires states to develop and submit, as SIP revisions, emission inventories for all areas designated as nonattainment for any NAAQS. EPA proposed to approve this action on October 26, 2021, and received no adverse comments.

DATES: This final rule is effective on March 11, 2022.

ADDRESSES: EPA has established a docket for this action under Docket ID No. EPA-R05-OAR-2021-0441. All documents in the docket are listed on the www.regulations.gov website. Although listed in the index, some information is not publicly available, i.e., Confidential Business Information (CBI) or other information whose disclosure is restricted by statute. Certain other material, such as copyrighted material, is not placed on the internet and will be publicly available only in hard copy form. Publicly available docket materials are available either through www.regulations.gov or at the Environmental Protection Agency, Region 5, Air and Radiation Division, 77 West Jackson Boulevard, Chicago, Illinois 60604. This facility is open from 8:30 a.m. to 4:30 p.m., Monday through Friday, excluding Federal holidays and facility closures due to COVID-19. We recommend that you telephone Emily Crispell, Environmental Scientist, at (312) 353-8512 before visiting the Region 5 office.

FOR FURTHER INFORMATION CONTACT: Emily Crispell, Environmental Scientist, Control Strategies Section, Air Programs Branch (AR-18J), Environmental Protection Agency, Region 5, 77 West Jackson Boulevard, Chicago, Illinois 60604, (312) 353-8512, crispell.emily@epa.gov.

SUPPLEMENTARY INFORMATION: Throughout this document whenever “we,” “us,” or “our” is used, we mean EPA.

I. Background Information

On October 26, 2021, EPA proposed to approve revisions to Michigan's SIP addressing the SO2 emissions inventory requirement of CAA section 172(c)(3) and certification of a fully approved Nonattainment New Source Review (NSR) program for the partial St. Clair County SO2 nonattainment area for the 2010 SO2 NAAQS (86 FR 59073). An explanation of the CAA requirements, a detailed analysis of the revisions, and EPA's reasons for proposing approval were provided in the notice of proposed rulemaking (NPRM) and will not be restated here. The public comment period for this proposed rule ended on November 26, 2021. EPA received no comments on the proposal.

II. Final Action

EPA is approving EGLE's SIP revision submitted to address the SO2-related emission inventory and NSR certification requirements for the partial St. Clair County SO2 nonattainment area for the 2010 SO2 NAAQS. A Clean Data Determination for the St. Clair County area was finalized in a separate action on December 6, 2021 (86 FR 69173). The emission inventory we are approving into the SIP is specified in Table 1 of the NPRM (86 FR 59073). We are approving the emission inventory because it contains comprehensive, accurate, and current inventories of actual emissions for all relevant sources in accordance with CAA section 172(c)(3), and because EGLE adopted the emission inventories after providing reasonable public notice. EPA is also approving the certification of Michigan's fully approved NSR program, which was approved by the EPA into the SIP on December 16, 2013 (78 FR 76064) and meets the requirements of CAA section 172(c)(5).

III. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves State law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by April 11, 2022. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Sulfur oxides.

Dated: February 2, 2022.
Debra Shore,
Regional Administrator, Region 5.

For the reasons stated in the preamble, EPA amends 40 CFR part 52 as follows:

PART 52—APPROVAL AND PROMULGATION OF IMPLEMENTATION PLANS

1. The authority citation for part 52 continues to read as follows:

Authority: 42 U.S.C. 7401 et seq.

2. In § 52.1170, the table in paragraph (e) is amended by adding an entry for “2010 SO2 Nonattainment New Source Review Certification” immediately after the entry for “2010 Sulfur Dioxide Clean Data Determination” and adding an entry under the subheading “Emissions Inventories” for “2010 SO2 Standard 2014 base year” after the entry for “2010 SO2 Standard 2012 base year” to read as follows:

§ 52.1170 Identification of plan.

* * * * *

(e) * * *

EPA-Approved Michigan Nonregulatory and Quasi-Regulatory Provisions
Name of nonregulatory SIP provision | Applicable geographic or nonattainment area | State submittal date | EPA approval date | Comments
* * * * * * *
2010 SO2 Nonattainment New Source Review Certification | St. Clair County (part) | 6/30/2021 | 2/9/2022, [INSERT Federal Register CITATION]
* * * * * * *
Emissions Inventories
* * * * * * *
2010 SO2 Standard 2014 base year | St. Clair County (part) | 6/30/2021 | 2/9/2022, [INSERT Federal Register CITATION]
* * * * * * *

[FR Doc. 2022-02676 Filed 2-8-22; 8:45 am]

BILLING CODE 6560-50-P